DEPARTMENT OF STATE

[Public Notice 3423]

Bureau of Educational and Cultural Affairs; Wye River People-to-People Exchange Program

NOTICE: Request for Proposals.

SUMMARY: The Office of Citizen Exchanges of the Bureau of Educational and Cultural Affairs (ECA) of the United States Department of State, in cooperation with the Bureau of Near Eastern Affairs (NEA), announces an open competition for grants under the Wye River People-to-People Exchange Program. Public and private non-profit organizations operating in the United States, in the West Bank and Gaza, and in Israel may submit proposals to develop and implement individual exchange projects or multi-faceted programs that involve both Israeli and Palestinian participants. American applicants are required to meet the provisions described in IRS regulation 26 CFR 1.501(c). The Bureau anticipates conducting a series of grant competitions over a two-year period and seeks to award grants totaling approximately $10 million. These assistance awards will be issued by ECA in Washington, by the American Embassy in Tel Aviv, and by the American Consulate General in Jerusalem. Project proposals requesting grant funding of $1 million or more will be accepted, though it is anticipated that most proposals submitted will request funding ranging from $50,000 to $500,000. Grants awarded to American organizations with less than four years' experience in conducting international exchange—programs will be limited to $60,000.

Program Information

Overview

The Office of Citizen Exchanges of the Bureau of Educational and Cultural Affairs, U.S. Department of State, consults with and supports public and private nonprofit organizations in developing and implementing multi-phased, often multi-year, exchanges of professionals, academics, youth leaders, public policy advocates, etc. These exchanges address issues crucial to the communities involved; they represent focused, substantive, and cooperative interaction among individuals representing diverse communities; and they entail both theoretical and experiential learning for all participants. A primary goal is the development of sustained, intercommunal institutional and individual linkages. In addition to providing a context for professional development and collaborative, inter-group problem-solving, these projects are intended to introduce participants to one another's political, social, and economic cultures.

The Wye River People-to-People Exchange Program is based on the premise that people-to-people exchanges—particularly those that focus on sharing efforts and pooling resources to address issues of importance to all parties to the exchange -will enhance mutual understanding, increase both the will and the ability of individuals to cooperate in an environment of mutual respect, and strengthen prospects for peaceful co-existence between communities.

In response to the aspirations of this program, the Office of Citizen Exchanges, in cooperation with the Bureau of Near Eastern Affairs, is soliciting proposals for exchange projects that will contribute to enhanced understanding and cooperation between Palestinians and Israelis by engaging representatives from the two communities in cooperative efforts to address issues of crucial importance to both. The emphasis should be on sustainable, collaborative, balanced efforts. Proposals must be submitted in English and may be submitted by any of the following:

1. American non-profit organizations and institutions, submitting jointly with Palestinian and Israeli counterparts. Grants in this category will be awarded in Washington by ECA.

2. Partnerships between Palestinian and Israeli non-profit organizations and institutions (inclusion of American partner organizations optional). Grants in this category will be awarded by the U.S. Embassy in Tel Aviv and/or the U.S. Consulate General in Jerusalem.

3. Joint Israeli-Palestinian non-profit organizations and institutions (inclusion of American partner organizations optional). Grants in this category will be awarded by the U.S. Embassy in Tel Aviv and/or the U.S. Consulate General in Jerusalem.

Proposal subject areas that will receive priority consideration from the review panels, based on their potential for having a broad public impact in the two communities, are education (including institutional strengthening, teacher training, and curriculum development) and media (joint reporting initiatives; journalism education; specialized reporting, etc.). The panels will also consider proposals in other areas, including, but not limited to, human rights/the protection of women and children, health, environmental education/conservation, and the management and strengthening of public interest groups or non-governmental organizations.

It is essential that proposals demonstrate parity in participation by Palestinians and Israelis in every phase.

Suggested components of proposed exchanges might include:

1. Initial needs assessment/orientation travel (if necessary) by project organizers to gain first-hand knowledge of the issue in the context of each community and to develop contacts and relationships with counterpart organizations/individuals involved;

2. Participant orientation to program purposes, with discussions and site visits to familiarize participants with all aspects of the issue to be addressed and with the cultural context and expectations of other participants;

3. Collaborative development and conduct of seminars and workshops to expand the network of involved individuals and to engage this expanded network in project implementation;

4. On-site training; short internships; cooperative work;

5. The development of pilot projects and the broad dissemination of information about the undertaking; and

6. Longer, intensive, joint Israeli-Palestinian internships.

Applicants are encouraged to be creative in planning project implementation. Activities may include both theoretical orientation and experiential, community-based initiatives designed to achieve concrete objectives. Meetings, workshops, etc. may take place on site, at a neutral venue in the region, or in the United States, should consultation or site visit requirements justify such travel. Travel to consult with specialists or to view examples of working models are legitimate grant expenditures.

Applicants should, in their proposals, identify, to the extent possible, partner organizations and/or individuals in the region or in the United States with which/whom they are proposing to collaborate, and they should justify their choices on the basis of experience and accomplishments. Subcontractual agreements or letters of understanding should be included in all proposals where these are relevant.

Selection of Participants

Successful applications should include a description of an open, merit-based participant selection process. Applicants should anticipate consulting and working with the Public Affairs Sections (PAS) of the U.S. Embassy in Tel Aviv and the U.S. Consulate General in Jerusalem in selecting participants, according the Embassy and the Consulate General staff the right to nominate participants.

Public Affairs Section Involvement

The Public Affairs Section of U.S. Embassy in Tel Aviv and the Public Affairs Office of the U.S. Consulate General in Jerusalem will play an important role in project implementation. The U.S. Missions will participate in proposal evaluation, and they may be involved with the grantee organization and its partners in project planning, facilitation of in-country activities, nomination of participants, observation of in-country activities, debriefing participants, and evaluating project impact. U.S. Missions are responsible for issuing IAP-66 forms in order for Israeli and Palestinian participants to obtain J-1 visas for entry to the United States in cases in which travel to the United States is appropriate to the implementation of the exchange. They also serve as a link between Israeli and Palestinian partners and participants and between these and the American partners when the grant recipients include an American institution.

Though project administration and implementation are the responsibility of the grantee, the grantee is expected to inform the Public Affairs Officers (PAOs) in Tel Aviv and/or Jerusalem, or their designees, of its operations and procedures and to consult with American Public Affairs personnel in the development of project activities. For American grantee institutions, the PAOs should be consulted regarding country priorities, current security issues, and related logistic and programmatic issues. Each grant, whether issued in Washington, in Tel Aviv, or in Jerusalem, will contain specific/detailed financial and program reporting requirements. Failure to comply with these requirements or failure of the grantee to implement grant activities as proposed may result in the early termination of the grant award.

Visa Regulations

Foreign participants on programs sponsored by ECA are granted J-1 Exchange Visitor visas by the U.S. Embassy in the sending country. All programs must comply with J-1 visa regulations. Please refer to the Proposal Submission Instructions (PSI), either for American or for non-American organizations, as applicable, for further information.

Budget Guidelines

All applicants must submit a line item budget based on guidance provided in the Proposal Submission Instructions (PSI) of the Solicitation Package. The anticipated range of awards is cited above.

All applicants must submit a comprehensive budget for the entire program. There must be a summary budget as well as breakdowns reflecting both administrative and program budgets. Applicants may provide separate sub-budgets for each program component, phase, location, or activity to provide clarification. Proposals must provide for cost sharing—in cash or in kind—of 50% of the TOTAL COST of the exchange project. Cost sharing may be derived from diverse sources, including foreign or domestic government contributions, private sector contributions, and/or direct institutional support. Funds originating with other departments or agencies of the U.S. Federal Government may not be used as cost sharing. Applicants may apply for a Wye River Grant in anticipation of receiving cost sharing or matching funds upon selection of the proposed project for an award. In such cases, grants will be formalized and funds become available only when evidence that the required level of cost sharing is available is presented to the Department of State, the U.S. Embassy in Tel Aviv or the U.S. Consulate General in Jerusalem.

Allowable costs include the following:

(1) Direct program expenses;

(2) Administrative expenses, including indirect costs.

Please refer to the Solicitation Package for complete budget guidelines and formatting instructions.

Announcement Title and Number

All correspondence with the Bureau, the U.S. Embassy in Tel Aviv or the U.S. Consulate General in Jerusalem concerning this request for proposals should reference the above title (Wye River People-to-People Exchange Program) and number ECA PE/C-00-69.

For Further Information

American organizations should contact: The Office of Citizen Exchanges, ECA/PE/C, Room 224, U.S. Department of State, 301 4th Street, SW., Washington, DC 20547, attention: Thomas Johnston. Telephone number 202/619-5325 or 202/260-0299; fax number 202/619-4350; Internet address to request a Solicitation Package (specific to American organizations): tjohnsto@pd.state.gov. The Solicitation Package contains detailed award criteria, required application forms, specific budget instructions, and standard guidelines for proposal preparation. Please specify Bureau Program Officer Thomas Johnston on all inquiries and correspondence.

Israeli or Palestinian applicants should direct inquiries to: the U.S. Embassy in Tel Aviv or the U.S. Consulate General in Jerusalem respectively. Inquiries should be addressed to:

In Tel Aviv (Note: Inquiries from Gaza should be directed to this address): Programs and Exchanges Office, U.S. Embassy, Tel Aviv. Telephone number: 03-516-3210; e-mail: p-e@usembassy-israel.org.il.

In Jerusalem (Note: Inquiries from Gaza should be directed to the Tel Aviv address above): Public Affairs Office, U.S. Consulate General, Jerusalem. Telephone number: 02-622-7207; e-mail: people@pd.state.gov.

Please read the complete Federal Register announcement or Request for Proposals (RFP) before sending inquiries or submitting proposals. Once the RFP deadline has passed, Bureau staff may not discuss this competition with applicants until the proposal review process has been completed.

To Download a Solicitation Package via Internet

The entire Solicitation Package may be downloaded from the Bureau's website, http://exchanges.state.gov/education/rfps. Please note! There will be two separate sets of Proposal Submission Instructions (PSI) available, one specific to American applicants and one specific to non-American (Israeli and Palestinian) applicants. Please read all information before downloading.

Deadline for Proposals

All proposal copies must be received at the Bureau of Educational and Cultural Affairs (in the case of American organizations) by 5 p.m. Eastern Standard Time (EST) or at the Public Affairs Section of the U.S. Embassy in Tel Aviv or at the Public Affairs Office of the U.S. Consulate General in Jerusalem (in the case of Israeli or Palestinian organizations) by 5 p.m. local time on January 5, 2001. Faxed documents will not be accepted at any time. Documents postmarked January 5, 2001, but received on a later date, will not be accepted. Each applicant must ensure that the proposals are received by the above deadline.

Applications must conform to all instructions in the Solicitation Package. The original and ten copies of the application submitted by American applicants should be sent to: U.S. Department of State, SA-44, Bureau of Educational and Cultural Affairs, Ref.: ECA/PE/C-00-69, Program Management, ECA/EX/PM, Room 336, 301 4th Street, SW., Washington, DC 20547.

American applicants must also submit the “Executive Summary” and “Proposal Narrative” sections of the proposal on a 3.5” diskette, formatted for DOS. These documents must be provided in ASCII text (DOS) format with a maximum line length of 65 characters. The Bureau will transmit these files electronically to the Public Affairs section of the US Embassy and the Public Affairs Office of the US Consulate for their review, with the goal of reducing the time it takes to receive comments for the grants review process.

The original and ten copies of applications submitted by Israeli and Palestinian applicants should be sent to one of the following addresses:

1. Programs and Exchanges, Migdalor Building, 8th Floor, One Ben Yehuda Street, Tel Aviv, Israel.

2. Public Affairs Office, American Consulate General, PO Box 290, Jerusalem 91002.

Diversity, Freedom and Democracy Guidelines (Specific to American Applicants)

Pursuant to the Bureau's authorizing legislation, programs must maintain a non-political character and should be balanced and representative of the diversity of American political, social, and cultural life. “Diversity” should be interpreted in the broadest sense and encompass differences including, but not limited to, ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.”

Public Law 106-113 requires that the governments of the countries described above do not have inappropirate influence in the selection process. Proposals should reflect advancement of this goal in their program contents, to the full extent deemed feasible.

Review Process

The Bureau, the Embassy in Tel Aviv, or the Consulate General in Jerusalem will acknowledge receipt of all proposals and will review them for technical eligibility. Proposals will be deemed ineligible if they do not fully adhere to the guidelines stated herein and in the Solicitation Package. All eligible proposals will be reviewed by the program office, as well as by the Public Diplomacy section of the U.S. Mission overseas. Eligible proposals will be forwarded to panels of State Department officers for advisory review. Proposals may also be reviewed by the Office of the Legal Adviser or by other Department elements. Final funding decisions are at the discretion of the Department of State's Assistant Secretary for Educational and Public Affairs. Final technical authority for assistance awards (grants or cooperative agreements) from the Bureau of Educational and Cultural Affairs resides with the Bureau's Grants Officer. Final technical authority for assistance awards from the U.S. Embassy in Tel Aviv and the U.S. Consulate General in Jerusalem resides with the Public Affairs Officer in the Public Affairs Section/Office in each Mission.

Review Criteria

Technically eligible applications will be competitively reviewed according to the criteria stated below. These criteria are not rank ordered, and all carry equal weight in the proposal evaluation.

1. Quality of the Program Idea: Proposals should be substantive, well thought out, focused on issues of demonstrable relevance to all proposed participants, and responsive, in general, to the exchange suggestions and guidelines provided above.

2. Implementation Plan and Ability to Achieve Objectives: A detailed project implementation plan should establish a clear and logical connection between the interest, the expertise, and the logistic capacity of the applicant and the objectives to be achieved. The plan should discuss, in concrete terms, how the institution proposes to achieve the objectives. Institutional resources—including personnel—assigned to the project should be adequate and appropriate to achieve project objectives. The substance of workshops and site visits should be included as an attachment, and the responsibilities of all partners should be clearly described.

3. Institution's Record/Ability: Proposals should include an institutional record of successful exchange programs, with reference to responsible fiscal management and full compliance with reporting requirements. The Bureau will consider the demonstrated potential of new applicants and will evaluate the performance record of prior recipients of Bureau grants as reported by the Bureau grant staff.

4. Follow-on Activities: Proposals should provide a plan for sustained follow-on activity (building on the linkages developed under the grant and the activities initially funded by the grant, after grant funds have been exhausted), ensuring that Bureau-supported projects are not isolated events.

5. Project Evaluation/Monitoring: Proposals should include a plan to monitor and evaluate the project's implementation, both as the activities unfold and at the end of the program. Reports should include both accomplishments and problems encountered. A discussion of survey methodology or other disclosure/measurement techniques, plus a description of how outcomes are defined in terms of the project's original objectives, is recommended. Successful applicants will be expected to submit a report after each project component is concluded or semi-annually, whichever is less frequent.

6. Impact: Proposed projects should, through the establishment of substantive, sustainable individual and institutional linkages and encouraging maximum sharing of information and cross-boundary cooperation, enhance mutual understanding among communities and societies.

7. Cost Effectiveness and Cost Sharing: Administrative costs should be kept low. Budgets submitted with proposals should reflect 50 percent (of the total cost of the exchange) cost sharing, comprised of cash or in-kind contributions. Such contributions may represent international or domestic government contributions, private sector contributions, or direct institutional support.

8. Support of Diversity: Proposals should demonstrate support for the Bureau's policy on diversity. Features relevant to this policy should be cited in program implementation (selection of participants, program venue and program evaluation), program content, and program administration.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. The funding authority for grants awarded to foreign entities under the Wye River People-to-People Exchange Program is provided in Title VI—International Affairs Supplemental Appropriations: Bilateral Economic Assistance.

Notice

The terms and conditions published in this RFP are binding and may not be modified by any Bureau/Department of State representative. Explanatory information provided by the Bureau/Department that contradicts published language will not be binding. Issuance of the RFP does not constitute an award commitment on the part of the Government. The Bureau/Department reserves the right to revise, reduce, or increase proposal budgets in accordance with the needs of the program and the availability of funds. Awards will be subject to periodic reporting and evaluation requirements.

Notification

Final awards cannot be made until funds have been appropriated by Congress, allocated and committed through internal Bureau procedures.

Dated: September 15, 2000.
Helena Kane Finn,
Principal Deputy Assistant Secretary, Educational and Cultural Affairs, U.S. Department of State.

[FR Doc. 00-24285 Filed 9-20-00; 8:45 am]

BILLING CODE 4710-11-P